DEPARTMENT OF THE INTERIOR

Bureau of Land Management

[NV-013-02-1210-AA WSAS]

Limited Use Designation within Elko Field Office Wilderness Study Areas; Elko, Nevada

AGENCY: Bureau of Land Management, Interior.

ACTION: Establishment of Limited Use designation for mechanical transport, including all motorized devices as well as trail and mountain bikes, in Wilderness Study Areas under the jurisdiction of the Elko Field Office, Nevada.

SUMMARY: The following Wilderness Study Areas are designated as Limited Use. Cedar Ridge WSA (NV-010-088); Red Spring WSA (NV-010-091); Little Humboldt WSA (NV-010-132); Rough Hills WSA (NV-010-151); South Fork Owyhee River WSA (NV-010-103A); Owyhee Canyon WSA (NV-010-106); Bluebell WSA (NV-010-027); Goshute Peak WSA (NV-010-033); South Pequop WSA (NV-010-035); and Bad Lands WSA (NV-010-184). Persons operating mechanical transport, including all motorized devices, as well as trail and mountain bikes, are limited to accessing only those boundary roads or ways existing inside a Wilderness Study Area, which were identified during the inventory phase of the wilderness review. Maps depicting those open roads within each Wilderness Study Area are available at the Elko Field Office. All other ways and roads are assumed closed. Persons with authorization to utilize the area by BLM regulations, contracts, leases or permits, may use the area described in accordance with those authorizations. Nothing in this closure effects the exercise of valid existing rights created by a contract, right of way, lease, permit or mining claim that is carried out in accordance with the regulations under which the rights were established.

Exemptions to this order are granted for these purposes only:

(a) In emergencies and search and rescue operations;

(b) for official purposes by the BLM and other Federal, State, and local agencies and their agents when necessary and specifically authorized the BLM for protection of human life, safety, and property; for protection of the lands and their resources; and

(c) to build or maintain structures and installations authorized as grandfathered uses or valid existing rights in the Interim Management Policy for Lands under Wilderness Review, as long as such use of vehicles is determined to satisfy the nonimpairment criteria and is only along routes authorized and specified by the BLM.

EFFECTIVE DATE: This designation is official on March 1, 2002 and will remain in effect until either rescinded by the authorizing official, or until Resource Management Plans for both Elko and Wells Resource Areas are amended, or until such time as Congress either designates the WSA as Wilderness or releases it for other purposes.

FOR FURTHER INFORMATION CONTACT: Helen Hankins, Elko Field Office Manager, 3900 Idaho Street, Elko, NV 89801. Telephone (775) 753-0200.

SUPPLEMENTARY INFORMATION: The BLM's Off Road Vehicle Regulations, 43 CFR 8342.1., require that the BLM establish off-road vehicle designation of areas and trails that meet the non-impairment mandate. It is the BLM's policy that cross-country vehicle use in the WSAs does cause the impairment of wilderness suitability. The BLM policy establishing what is necessary to prevent such impairment is set forth in BLM Manual Handbook H-8550-1, Interim Management Policy for Lands Under Wilderness Review.

The Limited Use designation is established to comply with the “nonimpairment” mandate established in the Interim Management Policy for Lands Under Wilderness Review, BLM Manual Handbook H-8850-1.

Helen M. Hankins,
Field Manager.

[FR Doc. 02-12904 Filed 5-22-02; 8:45 am]

BILLING CODE 4310-HC-P